DEPARTMENT OF LABOR

Employment and Training Administration

[TA-W-81,726 et al.]

Amended Certification Regarding Eligibility To Apply for Worker Adjustment Assistance

TA-W-81,726

Cinram Manufacturing, LLC (Currently Doing Business as Cinram Group Inc.), A Subsidiary of Cinram International, Including On-Site Leased Workers From Onesource Staffing Solutions, Olyphant, PA

TA-W-81,726A

Cinram Distribution, LLC (Currently Doing Business as Cinram Group Inc.), A Subsidiary of Cinram International, Including On-Site Leased Workers From Ambassador Personnel, Select Remedy Staffing, and Wood Personnel Services, Lavergne, TN

TA-W-81,726B

Leased Workers From ERG Staffing Service and AA Temporary Services, Inc., Working On-Site At Cinram Manufacturing, LLC (Currently Doing Business as Cinram Group Inc.), Olyphant, PA

TA-W-81,726C

Leased Workers from AFEEA, All-Star, and Elwood, Working On-Site at Cinram Distribution, LLC (Currently Doing Business as Cinram Group Inc.), Lavergne, TN

In accordance with Section 223 of the Trade Act of 1974, as amended (“Act”), 19 U.S.C. 2273, the Department of Labor issued a Certification of Eligibility to Apply for Worker Adjustment Assistance on July 25, 2012, applicable to workers and former workers of Cinram Manufacturing, LLC, a subsidiary of Cinram International, Olyphant, Pennsylvania (TA-W-81,726), Cinram Distribution, LLC, a subsidiary of Cinram International, LaVergne, Tennessee (TA-W-81,726A), and two leased worker groups (TA-W-81,726B and TA-W-81,726C). The subject worker groups are engaged in activities related to the production, packaging, and distribution of optical media devices.

At the request of the State of Pennsylvania, the Department reviewed the certification. New information revealed that the subject firm is currently doing business as Cinram Group Inc.

The amended notice applicable to TA-W-81,726 is hereby issued as follows:

All workers of Cinram Manufacturing, LLC, (currently doing business as Cinram Group Inc.), a subsidiary of Cinram International, including on-site leased workers from OneSource Staffing Solutions Olyphant, Pennsylvania (TA-W-81,726), and Cinram Distribution, LLC, (currently doing business as Cinram Group Inc.), a subsidiary of Cinram International, including on-site leased workers from Ambassador Personnel, Select Remedy Staffing and Wood Personnel Services, Lavergne, Tennessee (TA-W-81,726A), who became totally or partially separated from employment on or after July 17, 2012, through July 25, 2014, and all workers in the group threatened with total or partial separation from employment on July 25, 2012 through July 25, 2014, are eligible to apply for adjustment assistance under Chapter 2 of Title II of the Trade Act of 1974, as amended,

AND

All leased workers from ERG Staffing Service and AA Temporary Services, Inc., working on-site at Cinram Manufacturing, LLC, (currently doing business as Cinram Group Inc.), Olyphant, Pennsylvania (TA-W-81,726B), and leased workers from AFEEA, All-Star, and Elwood, working on-site at Cinram Distribution, LLC, (currently doing business as Cinram Group Inc.), Lavergne, Tennessee, (TA-W-81,726C), who became totally or partially separated from employment on or after June 14, 2011, through July 25, 2014, and all workers in the group threatened with total or partial separation from employment on July 25, 20142 through July 25, 2014, are eligible to apply for adjustment assistance under Chapter 2 of Title II of the Trade Act of 1974, as amended.

Signed in Washington, DC, this 20th day of September, 2012.
Del Min Amy Chen,
Certifying Officer, Office of Trade Adjustment Assistance.

[FR Doc. 2012-24559 Filed 10-4-12; 8:45 am]

BILLING CODE 4510-FN-P